DEPARTMENT OF DEFENSE

Defense Acquisition Regulations System

48 CFR Parts 204, 235, and 252

RIN 0750-AF13

Defense Federal Acquisition Regulation Supplement; Export-Controlled Information and Technology (DFARS Case 2004-D010)

AGENCY: Defense Acquisition Regulations System, Department of Defense (DoD).

ACTION: Proposed rule; reopening of comment period.

SUMMARY: DoD is reopening the comment period for the proposed rule published at 71 FR 46434 on August 14, 2006 which closed October 13. The proposed rule contains requirements for preventing unauthorized disclosure of export-controlled information and technology under DoD contracts. The comment period is extended to provide additional time for interested parties to review the proposed changes.

DATES: The ending date for submission of comments is reopened until November 2, 2006.

FOR FURTHER INFORMATION CONTACT: Ms. Amy Williams, Defense Acquisition Regulations System, OUSD (AT&L) DPAP (DARS), IMD 3C132, 3062 Defense Pentagon, Washington, DC 20301-3062. Telephone (703) 602-0328; facsimile (703) 602-0350. Please cite DFARS Case 2004-D010.

Michele P. Peterson,
Editor, Defense Acquisition Regulations System.

[FR Doc. E6-17231 Filed 10-16-06; 8:45 am]

BILLING CODE 5001-08-P